ENVIRONMENTAL PROTECTION AGENCY

40 CFR Parts 51 and 52

[EPA-HQ-OAR-2015-0531; FRL-9946-22-OAR]

Protection of Visibility: Amendments to Requirements for State Plans

AGENCY: Environmental Protection Agency (EPA).

ACTION: Notice of public hearing.

SUMMARY: The Environmental Protection Agency (EPA) is announcing a public hearing to be held for the proposed rule titled, “Protection of Visibility: Amendments to Requirements for State Plans” which published in the Federal Register on May 4, 2016. The hearing will be held on Wednesday, June 1, 2016, in Denver, Colorado. Please note that this hearing is being held in addition to the May 19, 2016, public hearing in Washington, DC that was announced in the notice of proposed rulemaking.

DATES: Public Hearing. The public hearing will be held on Wednesday, June 1, 2016, in Denver, Colorado. Please refer to SUPPLEMENTARY INFORMATION for additional information on the public hearing. Comments. Comments must be received on or before July 5, 2016.

ADDRESSES: Public Hearing. The June 1, 2016, public hearing will be held on the 2nd floor of the EPA Region 8 office, 1595 Wynkoop Street, Denver, CO 80202. Identification is required. If your driver's license is issued by American Samoa, Illinois or Missouri, you must present an additional form of identification to enter (see SUPPLEMENTARY INFORMATION for additional information on this location).

Comments: Submit your comments, identified by Docket ID No. EPA-HQ-OAR-2015-0531, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions and general guidance on making effective comments, please visit http://www2.epa.gov/dockets/comments.html.

FOR FURTHER INFORMATION CONTACT: If you would like to speak at the public hearing, please contact Ms. Pamela Long, U.S. Environmental Protection Agency, Office of Air Quality Planning and Standards, Air Quality Planning Division, (C504-01), Research Triangle Park, NC 27711, telephone (919) 541-0641, fax number (919) 541-5509, email address long.pam@epa.gov, no later than Tuesday, May 31, 2016. If you have any questions relating to the public hearing, please contact Ms. Long at the above number.

Questions concerning the May 4, 2016, proposed rule should be addressed to Mr. Christopher Werner, U.S. Environmental Protection Agency, Office of Air Quality Planning and Standards, (C539-04), Research Triangle Park, NC 27711, telephone (919) 541-5133, email address werner.christopher@epa.gov.

SUPPLEMENTARY INFORMATION: The proposal for which the EPA is holding the public hearing was published in the Federal Register on May 4, 2016, (81 FR 26942) and is available at: http://www.epa.gov/visibility and also in docket EPA-HQ-OAR-2015-0531. The public hearing will provide interested parties the opportunity to present data, views, or arguments concerning the proposal. The EPA may ask clarifying questions during the oral presentations, but will not respond to the presentations at that time. Written statements and supporting information that are submitted during the comment period will be considered with the same weight as any oral comments and supporting information presented at the public hearing.

Written comments must be postmarked by the last day of the comment period. The proposed rule states that the public comment period will close on July 5, 2016.

The public hearing will convene at 9 a.m. (Mountain Daylight Saving Time) and continue until the earlier of 5 p.m. or 1 hour after the last registered speaker has spoken. The EPA will make every effort to accommodate all individuals interested in providing oral testimony. A lunch break is scheduled from 12 p.m. until 1 p.m. Please note that this hearing will be held at a U.S. government facility. Individuals planning to attend the hearing should be prepared to show valid picture identification to the security staff in order to gain access to the meeting room. The REAL ID Act, passed by Congress in 2005, established new requirements for entering federal facilities. These requirements took effect July 21, 2014. If your driver's license is issued by American Samoa, Illinois or Missouri, you must present an additional form of identification to enter the federal building where the public hearing will be held. Enhanced driver's licenses from Minnesota and Washington are acceptable. Acceptable alternative forms of identification include: federal employee badges, passports, enhanced driver's licenses and military identification cards. For additional information for the status of your state regarding REAL ID, go to http://www.dhs.gov/real-id-enforcement-brief. In addition, you will need to obtain a property pass for any personal belongings you bring with you. Upon leaving the building, you will be required to return this property pass to the security desk. No large signs will be allowed in the building, cameras may only be used outside of the building, and demonstrations will not be allowed on federal property for security reasons. No drugs or drug paraphernalia (including marijuana) allowed.

If you would like to present oral testimony at the hearing, please notify Ms. Pamela Long, U.S. Environmental Protection Agency, Office of Air Quality Planning and Standards, Air Quality Planning Division, (C504-01), Research Triangle Park, NC 27711, telephone (919) 541-0641, fax number (919) 541-5509, email address long.pam@epa.gov, no later than 4:00 p.m. EDT on May 31, 2016. Ms. Long will arrange a general time slot for you to speak. The EPA will make every effort to follow the schedule as closely as possible on the day of the hearing.

Oral testimony will be limited to 5 minutes for each commenter. The EPA encourages commenters to provide the EPA with a copy of their oral testimony electronically (via email) or in hard copy form. The EPA will not provide audiovisual equipment for presentations unless we receive special requests in advance. Commenters should notify Ms. Long if they will need specific equipment. Commenters should also notify Ms. Long if they need specific translation services for non-English speaking commenters.

The hearing schedule, including the list of speakers, will be posted on the EPA's Web site at http://www.epa.gov/visibility prior to the hearing. Verbatim transcripts of the hearing and written statements will be included in the docket for the rulemaking.

How can I get copies of this document and other related information?

The EPA has established a docket for the proposed rule “Protection of Visibility: Amendments to Requirements for State Plans” under Docket ID No. EPA-HQ-OAR-2015-0531 (available at http://www.regulations.gov). The EPA has made available information related to the proposed rule at the following Web site: http://www.epa.gov/visibility.

Dated: May 5, 2016.
Stephen Page,
Director, Office of Air Quality Planning and Standards.

[FR Doc. 2016-11007 Filed 5-10-16; 8:45 am]

BILLING CODE 6560-50-P